DEPARTMENT OF HOMELAND SECURITY

Federal Emergency Management Agency

[Docket ID FEMA-2022-0002; Internal Agency Docket No. FEMA-B-2287]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before February 27, 2023.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2287, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

Community | Community map repository address
Arapahoe County, Colorado and Incorporated Areas
Project: 19-08-0022S Preliminary Date: June 10, 2022
City of Centennial | Southeast Metro Stormwater Authority, 7437 South Fairplay Street, Centennial, CO 80112.
City of Englewood | Civic Center, 1000 Englewood Parkway, Englewood, CO 80110.
City of Greenwood Village | City Hall, 6060 South Quebec Street, Greenwood Village, CO 80111.
City of Littleton | Public Works Department, 2255 West Berry Avenue, Littleton, CO 80120.
City of Sheridan | Municipal Center, 4101 South Federal Boulevard, Sheridan, CO 80110.
Unincorporated Areas of Arapahoe County | Arapahoe County Public Works and Development Department, 6924 South Lima Street, Centennial, CO 80112.
Harney County, Oregon and Incorporated Areas
Project: 20-10-0012S Preliminary Date: May 27, 2022
Burns Paiute Reservation | Burns Paiute Tribal Office, 100 Pasigo Street, Burns, OR 97720.
City of Burns | City Hall, 242 South Broadway Avenue, Burns, OR 97720.
City of Hines | City Hall, 101 East Barnes Avenue, Hines, OR 97738.
Unincorporated Areas of Harney County | Harney County Planning Department, 360 North Alvord Avenue, Burns, OR 97720.
Lane County, Oregon and Incorporated Areas
Project: 17-10-0923S Preliminary Date: February 28, 2020 and January 28, 2022
City of Cottage Grove | City Hall, 400 East Main Street, Cottage Grove, OR 97424.
City of Creswell | City Hall, 13 South 1st Street, Creswell, OR 97426.
City of Eugene | Public Works Department, 99 West 10th Avenue, Eugene, OR 97401.
City of Springfield | Planning Department, 225 5th Street, Springfield, OR 97477.
Unincorporated Areas of Lane County | Lane County Public Works Building, 3050 North Delta Highway, Eugene, OR 97408.

[FR Doc. 2022-25906 Filed 11-25-22; 8:45 am]

BILLING CODE 9110-12-P